DEPARTMENT OF TRANSPORTATION

Federal Aviation Administration

14 CFR Part 71

[Docket No. FAA-2022-0871; Airspace Docket No. 22-AGL-27]

RIN 2120-AA66

Amendment of Class E Airspace; Multiple Indiana Towns

AGENCY: Federal Aviation Administration (FAA), DOT.

ACTION: Final rule.

SUMMARY: This action amends the Class E airspace at Indianapolis, IN; Kokomo, IN; Marion, IN; and Sheridan, IN. This action due to airspace reviews conducted as part of the decommissioning of the Kokomo very high frequency (VHF) omnidirectional range (VOR) as part of the VOR Minimal Operational Network (MON) Program. The names and geographic coordinates of various airports are also being updated to coincide with the FAA's aeronautical database.

DATES: Effective 0901 UTC, February 23, 2023. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Airspace Policy Group, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E airspace extending upward from 700 feet above the surface at Indianapolis Executive Airport, Indianapolis, IN; Kokomo Municipal Airport, Kokomo, IN; Logansport/Cass County Airport, Logansport, IN, and Peru Municipal Airport, Peru, IN, both contained within the Kokomo, IN, airspace legal description; McKinney Field, Marion, IN; and Sheridan Airport, Sheridan, IN, to support instrument flight rule operations at these airports.

History

The FAA published a notice of proposed rulemaking in the Federal Register (87 FR 47146; August 2, 2022) for Docket No. FAA-2022-0871 to amend the Class E airspace at Indianapolis, IN; Kokomo, IN; Marion, IN; and Sheridan, IN. Interested parties were invited to participate in this rulemaking effort by submitting written comments on the proposal to the FAA. No comments were received.

Class E airspace designations are published in paragraph 6005 of FAA Order JO 7400.11G, dated August 19, 2022, and effective September 15, 2022, which is incorporated by reference in 14 CFR 71.1. The Class E airspace designations listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This amendment to 14 CFR part 71:

Amends the Class E airspace extending upward from 700 feet above the surface at Indianapolis Executive Airport, Indianapolis, IN, by updating the header of the airspace legal description from “Indianapolis Executive Airport, IN” to “Indianapolis, IN” to comply with changes to FAA Order JO 7400.2N, Procedures for Handling Airspace Matters; removes the cities from the associated airport and heliports to comply with changes to FAA Order JO 7400.2N; updates the names of Clarion North Medical Center Heliport (previously Clarian North Medical Center Heliport), Carmel, IN, and Methodist Hospital of Indiana Inc. Heliport (previously Methodist Hospital of Indiana), Indianapolis, IN, to coincide with the FAA's aeronautical database; removes the point in space geographic coordinates listed in the airspace legal description as they are listed in the header of the airspace legal description and are redundant; and removes the exclusionary language from the airspace legal description as it is not required;

Amends the Class E airspace extending upward from 700 feet above the surface to within a 6.7-mile (decreased from a 7-mile) radius of Kokomo Municipal Airport, Kokomo, IN; amends the extension northeast of Kokomo Municipal Airport to within 3 (decreased from 4) miles each side of the 045° bearing from the Kokomo Municipal: RWY 23-LOC (previously airport) extending from the 6.7-mile (previously 7-mile) radius of the airport to 11.8 (increased from 10.7) miles northeast of the airport; amends the extension southwest of Kokomo Municipal Airport to within 2 (decreased from 4) miles each side of the 225° bearing from the airport extending from the 6.7-mile (previously 7-mile) radius of the airport to 10.7 (decreased from 10.9) miles southwest of the airport; updates the geographic coordinates of Kokomo Municipal Airport to coincide with the FAA's aeronautical database; within a 6.5-mile (decreased from a 7.7-mile) radius of Logansport/Cass County Airport, Logansport, IN; within a 6.4-mile (increased from a 6.3-mile) radius of Peru Municipal Airport, Peru, IN; and removes the point in space geographic coordinates of the Regional Health System Heliport, Kokomo, IN, from the airspace legal description as they are listed in the header of the airspace legal description and are redundant;

Amends the Class E airspace extending upward from 700 feet above the surface to within a 6.5-mile (decreased from a 7-mile) radius of McKinney Field, Marion, IN; adds an extension within 6.9 miles southwest and 4 miles northeast of the Marion VOR/DME 323° radial extending from the 6.5-mile radius of the airport to 7 miles northwest of the Marion VOR/DME; and updates the name (previously Marion Municipal Airport) and geographic coordinates of the airport to coincide with the FAA's aeronautical database;

And amends the Class E airspace extending upward from 700 feet above the surface to within a 6.4-mile (decreased from a 6.7-mile) radius of Sheridan Airport, Sheridan, IN; removes the exclusionary language as it is not required; and updates the geographic coordinates of the airport to coincide with the FAA's aeronautical database.

This action is due to airspace reviews conducted as part of the decommissioning of the Kokomo VOR, which provided navigation information for the instrument procedures at these airports, as part of the VOR MON Program.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

71.1 [Amended]

2. The incorporation by reference in 14 CFR 71.1 of FAA Order JO 7400.11G, Airspace Designations and Reporting Points, dated August 19, 2022, and effective September 15, 2022, is amended as follows:

Paragraph 6005 Class E Airspace Areas Extending Upward From 700 Feet or More Above the Surface of the Earth.

* * * * *

AGL IN E5 Indianapolis, IN [Amended]

Indianapolis Executive Airport, IN

(Lat. 40°01′50″ N, long. 86°15′05″ W)

Clarion North Medical Center Heliport, IN, Point In Space Coordinates

(Lat. 39°56′53″ N, long. 86°09′20″ W)

Methodist Hospital of Indiana Inc. Heliport, IN, Point In Space Coordinates

(Lat. 39°47′00″ N, long. 86°10′27″ W)

That airspace extending upward from 700 feet above the surface within a 6.5-mile radius of Indianapolis Executive Airport; and within a 6-mile radius of the Clarion North Medical Center Heliport point in space coordinates; and within a 6-mile radius of the Methodist Hospital of Indiana Inc. Heliport point in space coordinates.

* * * * *

AGL IN E5 Kokomo, IN [Amended]

Kokomo Municipal Airport, IN

(Lat. 40°31′40″ N, long. 86°03′35″ W)

Kokomo Municipal: RWY 23-LOC

(Lat. 40°31′09″ N, long. 86°04′19″ W)

Grissom Air Reserve Base, IN

(Lat. 40°38′53″ N, long. 86°09′08″ W)

Grissom Air Reserve Base ILS Localizer Northeast

(Lat. 40°37′59″ N, long. 86°10′18″ W)

Grissom Air Reserve Base ILS Localizer Southwest

(Lat. 40°39′56″ N, long. 86°07′47″ W)

Logansport/Cass County Airport, IN

(Lat. 40°42′41″ N, long. 86°22′22″ W)

Peru Municipal Airport, IN

(Lat. 40°47′09″ N, long. 86°08′47″ W)

Regional Health System Heliport, IN, Point In Space Coordinates

(Lat. 40°26′47″ N, long. 86°08′23″ W)

That airspace extending upward from 700 feet above the surface within a 6.7-mile radius of Kokomo Municipal Airport; and within 3 miles each side of the 045° bearing from the Kokomo Municipal: RWY 23-LOC extending from the 6.7-mile radius of the Kokomo Municipal Airport to 11.8 miles northeast of the airport; and within 2 miles each side of the 225° bearing from the Kokomo Municipal Airport extending from the 6.7-mile radius of the airport to 10.7 miles southwest of the airport; and within a 7-mile radius of Grissom Air Reserve Base; and within 3.8 miles each side of the Grissom Air Reserve Base ILS Localizer Northeast course extending from the 7-mile radius of Grissom Air Reserve Base to 14.5 miles northeast of Grissom Air Reserve Base; and within 2 miles each side of the Grissom Air Reserve Base ILS Localizer Southwest course extending from the 7-mile radius of Grissom Air Reserve Base to 14.5 miles southwest of Grissom Air Reserve Base; and within a 6.5-mile radius of Logansport/Cass County Airport; and within a 6.4-mile radius of Peru Municipal Airport; and within a 6-mile radius of the Regional Health System Heliport point in space coordinates.

* * * * *

AGL IN E5 Marion, IN [Amended]

McKinney Field, IN

(Lat. 40°29′24″ N, long. 85°40′47″ W)

Marion VOR/DME

(Lat. 40°29′36″ N, long. 85°40′45″ W)

That airspace extending upward from 700 feet above the surface within a 6.5-mile radius of McKinney Field; and within 6.9 miles southwest and 4 miles northeast of the Marion VOR/DME 323° radial extending from the 6.5-mile radius of the airport to 7 miles northwest of the Marion VOR/DME.

* * * * *

AGL IN E5 Sheridan, IN [Amended]

Sheridan Airport, IN

(Lat. 40°10′41″ N, long. 86°13′01″ W)

That airspace extending upward from 700 feet above the surface within a 6.4-mile radius of the Sheridan Airport.

Issued in Fort Worth, Texas, on October 24, 2022.
Martin A. Skinner,
Acting Manager, Operations Support Group, ATO Central Service Center.

[FR Doc. 2022-23455 Filed 10-31-22; 8:45 am]

BILLING CODE 4910-13-P